DEPARTMENT OF HEALTH AND HUMAN SERVICES

National Institutes of Health

National Institute on Deafness and Other Communication Disorders; Notice of Meeting

Pursuant to section 1009 of the Federal Advisory Committee Act, as amended, notice is hereby given of a meeting of the National Deafness and Other Communication Disorders Advisory Council.

This is a virtual meeting and will be open to the public. The meeting can be accessed from the NIH Videocast at the following link: https://videocast.nih.gov/. Individuals who plan to attend and need special assistance, such as sign language interpretation or other reasonable accommodations, should notify the Contact Person listed below in advance of the meeting.

Name of Committee: National Deafness and Other Communication Disorders Advisory Council.

Date: January 22, 2026.

Time: 1:00 p.m. to 3:00 p.m.

Agenda: Staff Reports on Divisional, Programmatical, and Special Activities.

Address: National Institutes of Health, Neuroscience Center, 6001 Executive Boulevard, Rockville, MD 20852.

Meeting Format: Virtual Meeting.

Contact Person: Rebecca Wagenaar-Miller, Ph.D., Director, Division of Extramural Activities, NIDCD/NIH, 6001 Executive Boulevard, Bethesda, MD 20892, (301) 496-8693, rebecca.wagenaar-miller@nih.gov.

Information is also available on the Institute's/Center's home page: https://www.nidcd.nih.gov/about/advisory-council, where an agenda and any additional information for the meeting will be posted when available.

(Catalogue of Federal Domestic Assistance Program Nos. 93.173, Biological Research Related to Deafness and Communicative Disorders, National Institutes of Health, HHS)

Dated: December 9, 2025.
Rosalind M. Niamke,
Program Analyst, Office of Federal Advisory Committee Policy.

[FR Doc. 2025-22576 Filed 12-10-25; 8:45 am]

BILLING CODE 4140-01-P